DEPARTMENT OF HEALTH AND HUMAN SERVICES

Office of the National Coordinator for Health Information Technology

ACTION: Announcement of grant award.

Recipient: American Hospital Association.

Purpose of Award: ONC announces the award of a grant to the American Hospital Association to fund a supplement to the Association's national survey of hospitals that will measure the adoption and use of electronic health records by these providers.

Amount of Award: $101,973.

Project Period: 12 months with option for four additional years of funding at the same level.

Justification for Exception to Competition: The American Hospital Association, has many years of experience conducting surveys with a high response rate across all United States hospitals.

Name and Address of Awarding Office Official: Marc Weisman, Executive Director, Office of the National Coordinator for Health Information Technology, Department of Health and Human Services, 200 Independence Avenue, SW., Washington DC 20201.

Dated: May 13, 2009.
Marc Weisman,
Executive Director, Office of the National Coordinator for Health Information Technology.

[FR Doc. E9-11672 Filed 5-18-09; 8:45 am]

BILLING CODE 4150-45-P